DEPARTMENT OF THE INTERIOR

Bureau of Land Management

[AZ-910-0777-XP-241A]

State of Arizona Resource Advisory Council Meeting

AGENCY: Bureau of Land Management, Interior.

ACTION: Arizona Resource Advisory Council meeting notice.

SUMMARY: This notice announces a meeting of the Arizona Resource Advisory Council (RAC).

The business meeting will be held on June 8, 2006, in Elgin, Arizona, at the National Audubon Society Appleton-Whittell Research Ranch located at 366 Research Ranch Road (approximately 55 miles from Tucson east on I-10 and south on State Route 83S past Sonoita, AZ). It will begin at 9:30 a.m. and conclude at 4:30 p.m. The agenda items to be covered include: Review of the March 2, 2006 Meeting Minutes; BLM State Director's Update on Statewide Issues; Presentations on BLM's Invasive Weeds Program and the San Juan Bautista De Anza Trail—Arizona segment, Updates on the Recreation Resource Advisory Committee and Arizona Land Use Planning; RAC Questions on Written Reports from BLM Field Managers; Field Office Rangeland Resource Team Proposals; Reports by the Standards and Guidelines, Recreation, Off-Highway Vehicle Use, Public Relations, Land Use Planning and Tenure, and Wild Horse and Burro Working Groups; Reports from RAC members; and Discussion of future meetings. A public comment period will be provided at 11:30 a.m. on June 8, 2006, for any interested publics who wish to address the Council.

FOR FURTHER INFORMATION CONTACT: Deborah Stevens, Bureau of Land Management, Arizona State Office, One North Central Avenue, Suite 800, Phoenix, Arizona 85004-4427, (602) 417-9215.

Bonnie Hogan,
Acting Arizona State Director.

[FR Doc. E6-6903 Filed 5-5-06; 8:45 am]

BILLING CODE 4310-32-P